DEPARTMENT OF JUSTICE

Antitrust Division

Notice Pursuant to the National Cooperative Research and Production Act of 1993—Glass Manufacturing Industry Council—The Next Generation Melter Consortium

Notice is hereby given that, on February 10, 2005, pursuant to section 6(a) of the National Cooperative Research and Production Act of 1993, 15 U.S.C. 4301 et seq. (“the Act”), Glass Manufacturing Industry Council—The Next Generation Melter Consortium (“GMIC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Corning Incorporated, Corning, NY; Owens Corning Corporation, Granville, OH; PPG Industries, Inc., Pittsburgh, PA; SCHOTT North America, Inc., Duryea, PA; Johns Manville Corporation, Littleton, Co; Gas Technology Institute, Des Plains, IL; and Glass Manufacturing Industry Council, Westerville, OH. The general area of GMIC's planned activity is to develop and demonstrate a next generation glass melter using a submerged burner, called steel wall glass melter (NGMS).

Dorothy B. Fountain,
Deputy Director Director of Operations, Antitrust Division.

[FR Doc. 05-5891 Filed 3-24-05; 8:45 am]

BILLING CODE 4410-01-M